DEPARTMENT OF LABOR

Employment and Training Administration

[TA-W-40,501 and TA-W-40,501B]

Motorola, Inc., Global Telecom Solutions Sector (GTSS), Formerly Network Solutions Sector (NSS), Schaumburg, Illinois; and Motorola, Inc., Deer Park, Illinois; Amended Certification Regarding Eligibility To Apply for Worker Adjustment Assistance

In accordance with Section 223 of the Trade Act of 1974 (19 U.S.C. 2273) the Department of Labor issued a Certification of Eligibility to Apply for Worker Adjustment Assistance on May 2, 2002, applicable to workers of Motorola, Inc., Global Telecom Solutions Sector (GTSS), formerly Network Solutions Sector (NSS), Schaumburg, Illinois. The notice was published in the Federal Register on May 17, 2002 (67 FR 35143).

At the request of the company, the Department reviewed the certification for workers of the subject firm. The workers are engaged in the production of IDEN and CGISS radio system units.

Information shows that worker separations occurred at the Deer Park, Illinois location of the subject firm. The workers provide administrative support functions for Motorola's Global Telecommunications Solutions Sector (GTSS), located in Schaumburg, Illinois.

Accordingly, the Department is amending the certification to include workers of Motorola, Inc., Deer Park, Illinois.

The intent of the Department's certification is to include all workers of Motorola, Inc., Global Telecom Solutions Sector (GTSS), formerly Network Solutions Sector (NSS) who were adversely affected by increased imports.

The amended notice applicable to TA-W-40,501 is hereby issued as follows:

All workers of Motorola, Inc., Global Telecom Solutions Sector (GTSS), formerly Network Solutions Sector (NSS), Schaumburg, Illinois (TA-W-40,501), engaged in employment related to the production of IDEN and CTSS radio systems units, and workers of Motorola, Inc., Deer Park, Illinois (TA-W-40,501B) providing support services related to the production of Global Telecom Solutions Sector (GTSS), formerly Network Solutions Sector (NSS), at Schaumburg, Illinois, who became totally or partially separated from employment on or after November 15, 2000, through May 2, 2004, are eligible to apply for adjustment assistance under Section 223 of the Trade Act of 1974.

Signed at Washington, DC this 17th day of March 2003.
Linda G. Poole,
Certifying Officer, Division of Trade Adjustment Assistance.

[FR Doc. 03-10740 Filed 4-30-03; 8:45 am]

BILLING CODE 4510-30-P